DEPARTMENT OF TRANSPORTATION

Federal Aviation Administration

Notice of Intent To Rule on Application 02-09-U-00-CLE To Use the Revenue From a Passenger Facility Charge (PFC) at Cleveland Hopkins International Airport (CLE) and Burke Lakefront Airport (BKL), Cleveland, OH

AGENCY: Federal Aviation Administration (FAA), DOT.

ACTION: Notice of intent to rule on application.

SUMMARY: The FAA proposes to rule and invites public comment on the application to use the revenue from a PFC at Cleveland Hopkins International Airport and Burke Lakefront Airport under the provisions of the 49 U.S.C. 40117 and part 158 of the Federal Aviation Regulations (14 CFR part 158).

DATES: Comments must be received on or before April 19, 2002.

ADDRESSES: Comments on this application may be mailed or delivered in triplicate to the FAA at the following address: Federal Aviation Administration, Detroit Airports District Office, Willow Run Airport, East, 8820 Beck Road, Belleville, Michigan 48111.

In addition, one copy of any comments submitted to the FAA must be mailed or delivered to Michael Konicek, Cleveland Hopkins International Airport at the following address: Cleveland Hopkins International Airport, 5300 Riverside Drive, Cleveland, Ohio 44135.

Air carriers and foreign air carriers may submit copies of written comments previously provided to the Cleveland Hopkins International Airport under section 158.23 of part 158.

FOR FURTHER INFORMATION CONTACT: Ms. Arlene B. Draper, Program Manager, Federal Aviation Administration, Detroit Airports District Office, Willow Run Airport, East, 8820 Beck Road, Belleville, Michigan 48111 (734-487-7283). The application may be reviewed in person at this same location.

SUPPLEMENTARY INFORMATION: The FAA proposes to rule and invites public comment on the application to use the revenue from a PFC at Cleveland Hopkins International Airport and Burke Lakefront Airport under the provisions of the 49 U.S.C. 40117 and part 158 of the Federal Aviation Regulations (14 CFR part 158).

On February 5, 2002, the FAA determined that the application to use the revenue from a PFC submitted by Cleveland Hopkins International Airport was substantially complete within the requirements of section 158.25 of part 158. The FAA will approve or disapprove the application, in whole or in part, not later than May 31, 2002.

The following is a brief overview of the application.

Actual charge effective date: June 1, 1999.

Estimated charge expiration date: November 1, 2002.

Level of the proposed PFC: $4.50.

Total estimated PFC revenue: $3,410,400.

Brief description of proposed projects: Analex Office Building Demolition (CLE); Installation of Instrument Landing System (ILS) on Runway 6L/24R (BKL).

Class or classes of air carriers which the public agency has requested to be required to collect PFCs: air taxi.

Any person may inspect the application in person at the FAA office listed above under FOR FURTHER INFORMATION CONTACT.

In addition, any person may, upon request, inspect the application, notice and other documents germane to the application in person at the Cleveland Hopkins International Airport, 5300 Riverside Drive, Cleveland, Ohio 44135.

Issued in Des Plaines, Illinois on March 12, 2002.
Mark A. McClardy,
Manager, Planning and Programming Branch, Airports Division, Great Lakes Region.

[FR Doc. 02-6651 Filed 3-19-02; 8:45 am]

BILLING CODE 4910-13-M